DEPARTMENT OF ENERGY

Federal Energy Regulatory Commission

Combined Notice of Filings

Take notice that the Commission has received the following Natural Gas Pipeline Rate and Refund Report filings:

Filings Instituting Proceedings

Docket Numbers: PR24-62-000.

Applicants: Delaware Link Ventures, LLC.

Description: Supplement to 04/01/2024 NGPA Section 311 Statement of Operating Conditions Filing of Delaware Link Ventures, LLC.

Filed Date: 2/25/25.

Accession Number: 20250225-5200.

Comment Date: 5 p.m. ET 3/18/25.

Docket Numbers: PR25-39-000.

Applicants: The East Ohio Gas Company.

Description: 284.123(g) Rate Filing: Operating Statement of The East Ohio Gas Company 2/26/2025 to be effective 2/26/2025.

Filed Date: 2/25/25.

Accession Number: 20250225-5242.

Comment Date: 5 p.m. ET 3/18/25.

284.123(g) Protest: 5 p.m. ET 4/28/25.

Docket Numbers: RP25-589-000.

Applicants: Adelphia Gateway, LLC.

Description: Compliance filing: Adelphia Gateway Penalty Crediting Report 2025 to be effective N/A.

Filed Date: 2/26/25.

Accession Number: 20250226-5057.

Comment Date: 5 p.m. ET 3/10/25.

Docket Numbers: RP25-590-000.

Applicants: Kern River Gas Transmission Company.

Description: 4(d) Rate Filing: 2025 Daggett Surcharge Filing to be effective 4/1/2025.

Filed Date: 2/26/25.

Accession Number: 20250226-5059.

Comment Date: 5 p.m. ET 3/10/25.

Docket Numbers: RP25-591-000.

Applicants: TransCameron Pipeline, LLC.

Description: Annual Report of Operational Purchases and Sales of TransCameron Pipeline, LLC.

Filed Date: 2/26/25.

Accession Number: 20250226-5061.

Comment Date: 5 p.m. ET 3/10/25.

Docket Numbers: RP25-592-000.

Applicants: Venture Global Gator Express, LLC.

Description: Annual Report of Operational Purchases and Sales of Venture Global Gator Express LLC.

Filed Date: 2/26/25.

Accession Number: 20250226-5081.

Comment Date: 5 p.m. ET 3/10/25.

Docket Numbers: RP25-593-000.

Applicants: Cove Point LNG, LP.

Description: 4(d) Rate Filing: Cove Point—2025 Annual EPCA to be effective 4/1/2025.

Filed Date: 2/26/25.

Accession Number: 20250226-5111.

Comment Date: 5 p.m. ET 3/10/25.

Docket Numbers: RP25-594-000.

Applicants: Cove Point LNG, LP.

Description: 4(d) Rate Filing: Cove Point—2025 Annual Fuel Retainage to be effective 4/1/2025.

Filed Date: 2/26/25.

Accession Number: 20250226-5118.

Comment Date: 5 p.m. ET 3/10/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-505-001.

Applicants: Golden Pass Pipeline LLC.

Description: Compliance filing: Golden Pass Pipeline LLC Annual Retainage Report 2025 to be effective 12/31/9998.

Filed Date: 2/26/25.

Accession Number: 20250226-5000.

Comment Date: 5 p.m. ET 3/10/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 27, 2025.
Carlos D. Clay,
Deputy Secretary.

[FR Doc. 2025-03446 Filed 3-3-25; 8:45 am]

BILLING CODE 6717-01-P